DEPARTMENT OF THE INTERIOR

Bureau of Indian Affairs

[145A2100DD/A0T501010.999900/AAK3000000]

Renewal of Agency Information Collection for Verification of Indian Preference for Employment in BIA and IHS

AGENCY: Bureau of Indian Affairs, Interior.

ACTION: Notice of submission to OMB.

SUMMARY: In compliance with the Paperwork Reduction Act of 1995, the Bureau of Indian Affairs (BIA) is submitting to the Office of Management and Budget (OMB) a request for renewal for the collection of information, “Verification of Indian Preference for Employment in BIA and IHS.” The information collection is currently authorized by OMB Control Number 1076-0160, which expires November 30, 2014.

DATES: Interested persons are invited to submit comments on or before December 8, 2014.

ADDRESSES: You may submit comments on the information collection to the Desk Officer for the Department of the Interior at the Office of Management and Budget, by facsimile to (202) 395-5806 or you may send an email to: OIRA_Submission@omb.eop.gov. Please send a copy of your comments to: Ms. Laurel Iron Cloud, Chief, Division of Tribal Government Services, Office of Indian Services, Bureau of Indian Affairs, 1849 C Street NW., Mail Stop 4513 MIB, Washington, DC 20240; facsimile: (202) 208-5113; email: laurel.ironcloud@bia.gov.

FOR FURTHER INFORMATION CONTACT: Ms. Laurel Iron Cloud, telephone (202) 513-7641. You may review the information collection request online at http://www.reginfo.gov. Follow the instructions to review Department of the Interior collections under review by OMB.

SUPPLEMENTARY INFORMATION:

I. Abstract

BIA is seeking renewal of the approval for the information collection conducted under 25 U.S.C. 43, 36 Stat. 472, inter alia, and implementing regulations, at 25 CFR part 5, regarding verification of Indian preference for employment. The purpose of Indian preference is to encourage qualified Indian persons to seek employment with the BIA and Indian Health Service (IHS) by offering preferential treatment to qualified candidates of Indian heritage. BIA collects the information to ensure compliance with Indian preference hiring requirements. The information collection relates only to individuals applying for employment with the BIA and IHS. The tribe's involvement is limited to verifying membership information submitted by the applicant. The collection of information allows certain persons who are of Indian descent to receive preference when appointments are made to vacancies in positions with the BIA and IHS as well as in any unit that has been transferred intact from the BIA to a Bureau or office within the Department of the Interior or the Department of Health and Human Services and that continues to perform functions formerly performed as part of the BIA and IHS. You are eligible for preference if (a) you are a member of a federally recognized Indian tribe; (b) you are a descendent of a member and you were residing within the present boundaries of any Indian reservation on June 1, 1934; (c) you are an Alaska native; or (d) you possess one-half degree Indian blood derived from tribes that are indigenous to the United States. No changes are being made to the form.

II. Request for Comments

On July 18, 2014, BIA published a notice announcing the renewal of this information collection and provided a 60-day comment period in the Federal Register (79 FR 42031). There were no comments received in response to this notice.

The BIA requests your comments on this collection concerning: (a) The necessity of the information collection for the proper performance of the functions of the agencies, including whether the information will have practical utility; (b) the accuracy of the agency's estimate of the burden (hours and cost) of the collection of information, including the validity of the methodology and assumptions used; (c) ways we could enhance the quality, utility and clarity of the information to be collected; and (d) ways we could minimize the burden of the collection of the information on the respondents.

Please note that an agency may not sponsor or conduct, and an individual need not respond to, a collection of information unless it displays a valid OMB Control Number.

It is our policy to make all comments available to the public for review at the location listed in the ADDRESSES section during the hours of 9:00 a.m. to 5:00 p.m., Eastern Time, Monday through Friday except for legal holidays. Before including your address, phone number, email address or other personally identifiable information in your comment, you should be aware that your entire comment—including your personally identifiable information—may be made publicly available at any time. While you can ask us in your comment to withhold your personally identifying information from public review, we cannot guarantee that we will be able to do so.

III. Data

OMB Control Number: 1076-0160.

Title: Verification of Indian preference for Employment in the BIA and IHS.

Brief description of collection: Submission of this information by Indian applicants for jobs with BIA and IHS allows the Personnel Offices of BIA and IHS to verify that the individual meets the requirements for Indian preference in hiring. Response is required to obtain the benefit of preferential hiring. The collection of this information is voluntary. Response is required to obtain or retain a benefit.

Type of Review: Extension without change of a currently approved collection.

Respondents: Qualified Indian persons who are seeking preference in employment with the BIA and IHS.

Number of Respondents: 5,000 per year, on average.

Number of Responses: 5,000 per year, on average.

Frequency of Response: On occasion.

Estimated Time per response: 30 minutes.

Estimated Total Annual Hour Burden: 2,500 hours.

Estimated Total Annual Non-Hour Dollar Cost: $6,920 (postage and copying costs). This reflects an increase to the non-hour cost burden by $400 (from $6,520 to $6,920) to reflect the increase in postage costs.

Dated: November 4, 2014.
Elizabeth K. Appel,
Director, Office of Regulatory Affairs and Collaborative Action—Indian Affairs.

[FR Doc. 2014-26539 Filed 11-6-14; 8:45 am]

BILLING CODE 4310-4J-P